DEPARTMENT OF HEALTH AND HUMAN SERVICES

Administration for Children and Families

[CFDA Number: 93.604]

Announcement of the Intent To Award Nine Supplements to ORR Grant Recipients in Seven States

AGENCY: Office of Refugee Resettlement (ORR), Administration for Children and Families (ACF), U.S. Department of Health and Human Services (HHS).

ACTION: Notice of issuance of supplements.

SUMMARY: ACF, ORR, Division of Refugee Health (DRH) announces the intent to award supplements in the aggregate amount of up to $466,563 to nine grant recipients under Notice of Funding Opportunity: Direct Services for Survivors of Torture, HHS-2022-ACF-ORR-ZT-0051. The purpose of the awards is to ensure that the 222 Nicaraguan Humanitarian Parolees (NHP) who were brought to the United States will have access to holistic care and services. This supplement will enable the identified grant recipients in California, Florida, Georgia, Maryland, Minnesota, Texas, and Virginia to provide access to medical, mental health, social, and legal services to NHP within their geographic service areas, and coordinate with The Center for Victims of Torture in Minnesota and other providers to serve NHP outside their service areas. The goal of these services is to help the NHP improve their health, find employment and stable housing, and regularize their immigration status.

DATES: The proposed period of performance is 9/30/2022 to 9/29/2023.

FOR FURTHER INFORMATION CONTACT: Margaret Brewinski-Isaacs, DRH Director, Office of Refugee Resettlement, 330 C Street Address SW, Washington, DC 20201. Telephone: (202) 401-7237; Email: Margaret.Brewinskiisaacs@acf.hhs.gov.

SUPPLEMENTARY INFORMATION: ORR announces the intent to award the following supplement awards:

Recipient | Award amount
Gulf Coast Jewish Family and Community Services, Clearwater, Florida | $136,563
HIAS, Capital Area Healing Coalition, Silver Spring, Maryland | 52,500
Asylee Women Enterpise, Inc., Baltimore, Maryland | 30,000
Northern Virginia Family Service, Oakton, Virginia | 62,500
Center for Survivors of Torture, Austin, Texas | 30,000
Partnership for Trauma Recovery, Berkeley, California | 30,000
Program for Torture Victims LA County, Los Angeles, California | 20,000
The Center for Victims of Torture, Atlanta, Georgia | $3,000
The Center for Victims of Torture, St. Paul, Minnesota | 70,000

These programs will provide direct services to the 222 Nicaraguan Humanitarian Parolees (NHP) who were released from prison in Nicaragua and brought to the United States by the U.S. Department of State in February 2023.

On February 16, 2023, ORR issued Dear Colleague Letter 23-16, which stated that while the NHP's current immigration status does not provide eligibility for refugee program assistance, they may apply for assistance from ORR-funded Survivors of Torture (SOT) grant recipients. ORR has been working closely with the U.S. Department of State to connect these individuals to SOT grant recipients and other local service providers. Due to the nature and length of the NHP's detention in Nicaragua, their sudden release from prison and entry into the United States, and their temporary immigration status, these individuals need immediate assistance. The SOT grant recipients identified above are willing to provide medical, mental health, case management, and legal services to these individuals. However, the timing of these arrivals and the concentration in certain states has overwhelmed the capacity of SOT grant recipients in these locations. The supplemental awards will enhance the grant recipients' capacity to provide essential care and support for NHP so that they can begin the healing process.

Statutory Authority: Section 5(a) of the “Torture Victims Relief Act of 1998,” Public Law 105-320 (22 U.S.C. 2152 note) Assistance for Treatment of Torture Victims.

Karen D. Shields,
Senior Grants Policy Specialist, Office of Grants Policy, Office of Administration.

[FR Doc. 2023-15650 Filed 7-24-23; 8:45 am]

BILLING CODE 4184-46-P